DEPARTMENT OF HOMELAND SECURITY

Coast Guard

33 CFR Parts 100 and 165

[Docket No. USCG-2012-1057]

Special Local Regulations and Safety Zones; Recurring Events in Northern New England

AGENCY: Coast Guard, DHS.

ACTION: Notice of enforcement of regulations.

SUMMARY: The Coast Guard will enforce the events outlined in Tables 1 and 2 taking place throughout the Sector Northern New England Captain of the Port Zone. This action is necessary to protect marine traffic and spectators from the hazards associated with powerboat races, regattas, boat parades, rowing and paddling boat races, swim events, and fireworks displays. During the enforcement period, no person or vessel may enter the Special Local Regulation area or Safety Zone without permission of the Captain of the Port.

DATES: The marine events listed in 33 CFR 100.120 and 33 CFR 165.171 will take place during the times and dates specified in Tables 1 and 2 in SUPPLEMENTARY INFORMATION.

FOR FURTHER INFORMATION CONTACT: If you have questions on this notice, call or email Ensign Elizabeth V. Morris, Waterways Management Division at Coast Guard Sector Northern New England, telephone 207-767-0398, email Elizabeth.V.Morris@uscg.mil.

SUPPLEMENTARY INFORMATION: The Coast Guard will enforce the Special Local Regulations and Safety Zones listed in 33 CFR 100.120 and 33 CFR 165.171. These regulations will be enforced for the duration of each event, on or about the dates indicated in TABLES 1 and 2.

Table 1—(33 CFR 100.120)
JUNE
Charlie Begin Memorial Lobster Boat Races | • Event Type: Power Boat Race.
| • Sponsor: Boothbay Harbor Lobster Boat Race Committee.
| • Date: June 15, 2013.
| • Time: 9 a.m. to 3 p.m.
| • Location: The regulated area includes all waters of Boothbay Harbor, Maine in the vicinity of John's Island within the following points (NAD 83):
| 43°50′04″ N, 069°38′37″ W.
| 43°50′54″ N, 069°38′06″ W.
| 43°50′49″ N, 069°37′50″ W.
| 43°50′00″ N, 069°38′20″ W.
Rockland Harbor Lobster Boat Races | • Event Type: Power Boat Race.
| • Sponsor: Rockland Harbor Lobster Boat Race Committee.
| • Date: June 16, 2013.
| • Time: 9 a.m. to 4 p.m.
| • Location: The regulated area includes all waters of Rockland Harbor, Maine in the vicinity of the Rockland Breakwater Light within the following points (NAD 83):
| 44°05′59″ N, 069°04′53″ W.
| 44°06′43″ N, 069°05′25″ W.
| 44°06′50″ N, 069°05′05″ W.
| 44°06′05″ N, 069°04′34″ W.
Windjammer Days Parade of Ships | • Event Type: Tall Ship Parade.
| • Sponsor: Boothbay Region Chamber of Commerce.
| • Date: June 26, 2013.
| • Time: 1 p.m. to 5 p.m.
| • Location: The regulated area includes all waters of Boothbay Harbor, Maine in the vicinity of Tumbler's Island within the following points (NAD 83):
| 43°51′02″ N, 069°37′33″ W.
| 43°50′47″ N, 069°37′31″ W.
| 43°50′23″ N, 069°37′57″ W.
| 43°50′01″ N, 069°37′45″ W.
| 43°50′01″ N, 069°38′31″ W.
| 43°50′25″ N, 069°38′25″ W.
| 43°50′49″ N, 069°37′45″ W.
JULY
Searsport Lobster Boat Races | • Event Type: Power Boat Race.
| • Sponsor: Searsport Lobster Boat Race Committee.
| • Date: July 13, 2013.
| • Time: 9 a.m. to 3 p.m.
| • Location: The regulated area includes all waters of Searsport Harbor, Maine within the following points (NAD 83):
| 44°26′50″ N, 068°55′20″ W.
| 44°27′04″ N, 068°55′26″ W.
| 44°27′12″ N, 068°54′35″ W.
| 44°26′59″ N, 068°54′29″ W.
Mayor's Cup Regatta | • Event Type: Sailboat Parade.
| • Sponsor: Plattsburgh Sunrise Rotary.
| • Date: July 13, 2013.
| • Time: 8 a.m. to 5 p.m.
| • Location: The regulated area includes all waters of Cumberland Bay on Lake Champlain in the vicinity of Plattsburgh, New York within the following points (NAD 83):
| 44°39′26″ N, 073°26′25″ W.
| 44°41′27″ N, 073°23′12″ W.
Arthur Martin Memorial Regatta | • Event Type: Rowing and Paddling Boat Race.
| • Sponsor: International Recreational Open Water Rowing Association.
| • Date: July 13, 2013.
| • Time: 9 a.m. to 1 p.m.
| • Location: The regulated area includes all waters of the Piscataqua River, in the vicinity of Kittery Point, Maine within the following points (NAD 83):
| 43°03′51″ N, 070°41′55″ W.
| 43°04′35″ N, 070°42′18″ W.
| 43°04′42″ N, 070°43′15″ W.
| 43°05′14″ N, 070°43′12″ W.
| 43°05′14″ N, 070°43′06″ W.
| 43°04′44″ N, 070°43′11″ W.
| 43°04′35″ N, 070°42′13″ W.
| 43°03′53″ N, 070°41′40″ W.
Stonington Lobster Boat Races | • Event Type: Power Boat Race.
| • Sponsor: Stonington Lobster Boat Race Committee.
| • Date: July 14, 2013.
| • Time: 9:30 a.m. to 4 p.m.
| • Location: The regulated area includes all waters of Stonington, Maine within the following points (NAD 83):
| 44°08′55″ N, 068°40′12″ W.
| 44°09′00″ N, 068°40′15″ W.
| 44°09′11″ N, 068°39′42″ W.
| 44°09′07″ N, 068°39′39″ W.
The Challenge Race | • Event Type: Rowing and Paddling Boat Race.
| • Sponsor: Lake Champlain Maritime Museum.
| • Date: July 14, 2013.
| • Time: 10 a.m. to 3 p.m.
| • Location: The regulated area includes all waters of Lake Champlain in the vicinity of Button Bay State Park within the following points (NAD 83):
| 44°12′25″ N, 073°22′32″ W.
| 44°12′00″ N, 073°21′42″ W.
| 44°12′19″ N, 073°21′25″ W.
| 44°13′16″ N, 073°21′36″ W.
Yarmouth Clam Festival Paddle Race | • Event Type: Rowing and Paddling Boat Race.
| • Sponsor: Maine Island Trail Association.
| • Date: July 20, 2013.
| • Time: 8:30 a.m. to 2 p.m.
| • Location: The regulated area includes all waters in the vicinity of the Royal River outlet and Lane's Island within the following points (NAD 83):
| 43°47′47″ N, 070°08′40″ W.
| 43°47′50″ N, 070°07′13″ W.
| 43°47′06″ N, 070°07′32″ W.
| 43°47′17″ N, 070°08′25″ W.
Friendship Lobster Boat Races | • Event Type: Power Boat Race.
| • Sponsor: Friendship Lobster Boat Race Committee.
| • Date: July 20, 2013.
| • Time: 9 a.m. to 3 p.m.
| • Location: The regulated area includes all waters of Friendship Harbor, Maine within the following points (NAD 83):
| 43°57′51″ N, 069°20′46″ W.
| 43°58′14″ N, 069°19′53″ W.
| 43°58′19″ N, 069°20′01″ W.
| 43°58′00″ N, 069°20′46″ W.
Harpswell Lobster Boat Races | • Event Type: Power Boat Race.
| • Sponsor: Harpswell Lobster Boat Race Committee.
| • Date: July 28, 2013.
| • Time: 11 a.m. to 4 p.m.
| • Location: The regulated area includes waters of Middle Bay near Harpswell, Maine within the following points (NAD 83):
| 43°44′15″ N, 070°02′06″ W.
| 43°44′59″ N, 070°01′21″ W.
| 43°44′51″ N, 070°01′05″ W.
| 43°44′06″ N, 070°01′49″ W.
Moosabec Lobster Boat Races | • Event Type: Power Boat Race.
| • Sponsor: Moosabec Boat Race Committee.
| • Date: July 29, 2013.
| • Time: 9 a.m. to 2 p.m.
| • Location: The regulated area includes all waters of Jonesport, Maine within the following points (NAD 83):
| 44°31′21″ N, 067°36′44″ W.
| 44°31′36″ N, 067°36′47″ W.
| 44°31′44″ N, 067°35′36″ W.
| 44°31′29″ N, 067°35′33″ W.
AUGUST
Eggemoggin Reach Regatta | • Event Type: Wooden Boat Parade.
| • Sponsor: Rockport Marine, Inc. and Brookline Boat Yard.
| • Date: August 3, 2013.
| • Time: 11 a.m. to 7 p.m.
| • Location: The regulated area includes all waters of Eggemoggin Reach and Jericho Bay in the vicinity of Naskeag Harbor, Maine within the following points (NAD 83):
| 44°15′16″ N, 068°36′26″ W.
| 44°12′41″ N, 068°29′26″ W.
| 44°07′38″ N, 068°31′30″ W.
| 44°12′54″ N, 068°33′46″ W.
Lake Champlain Dragon Boat Festival | • Event Type: Rowing and Paddling Boat Race.
| • Sponsor: Dragonheart Vermont.
| • Date: August 4, 2013.
| • Time: 7 a.m. to 6 p.m.
| • Location: The regulated area includes all waters of Burlington Bay within the following points (NAD 83):
| 44°28′51″ N, 073°13′28″ W.
| 44°28′40″ N, 073°13′40″ W.
| 44°28′37″ N, 073°13′29″ W.
| 44°28′40″ N, 073°13′17″ W.
Southport Rowgatta Rowing and Paddling Boat Race. | • Event Type: Rowing and Paddling Boat Race.
| • Sponsor: Boothbay Region YMCA.
| • Date: August 10, 2013.
| • Time: 8 a.m. to 3 p.m.
| • Location: The regulated area includes all waters of Sheepscot Bay and Boothbay, on the shore side of Southport Island, Maine within the following points (NAD 83):
| 43°50′26″ N, 069°39′10″ W.
| 43°49′10″ N, 069°38′35″ W.
| 43°46′53″ N, 069°39′06″ W.
| 43°46′50″ N, 069°39′32″ W.
| 43°49′07″ N, 069°41′43″ W.
| 43°50′19″ N, 069°41′14″ W.
| 43°51′11″ N, 069°40′06″ W.
Winter Harbor Lobster Boat Races | • Event Type: Power Boat Race.
| • Sponsor: Winter Harbor Chamber of Commerce.
| • Date: August 10, 2013.
| • Time: 9 a.m. to 3 p.m.
| • Location: The regulated area includes all waters of Winter Harbor, Maine within the following points (NAD 83):
| 44°22′06″ N, 068°05′13″ W.
| 44°23′06″ N, 068°05′08″ W.
| 44°23′04″ N, 068°04′37″ W.
| 44°22′05″ N, 068°04′44″ W.
Merritt Brackett Lobster Boat Races | • Event Type: Power Boat Race.
| • Sponsor: Town of Bristol, Maine.
| • Date: August 11, 2013.
| • Time: 10 a.m. to 3 p.m.
| • Location: The regulated area includes all waters of Pemaquid Harbor, Maine within the following points (NAD 83):
| 43°52′16″ N, 069°32′10″ W.
| 43°52′41″ N, 069°31′43″ W.
| 43°52′35″ N, 069°31′29″ W.
| 43°52′09″ N, 069°31′56″ W.
Multiple Sclerosis Regatta | • Event Type: Regatta and Sailboat Race.
| • Sponsor: Maine Chapter, Multiple Sclerosis Society.
| • Date: August 17, 2013.
| • Time: 9 a.m. to 3 p.m.
| • Location: The regulated area for the start of the race includes all waters of Casco Bay, Maine in the vicinity of Peaks Island within the following points (NAD 83):
| 43°40′24″ N, 070°14′20″ W.
| 43°40′36″ N, 070°13′56″ W.
| 43°39′58″ N, 070°13′21″ W.
| 43°39′46″ N, 070°13′51″ W.
Multiple Sclerosis Harborfest Lobster Boat/Tugboat Races | • Event Type: Power Boat Race.
| • Sponsor: Maine Chapter, National Multiple Sclerosis Society.
| • Date: August 18, 2013.
| • Time: 10 a.m. to 6 p.m.
| • Location: The regulated area includes all waters of Portland Harbor, Maine in the vicinity of Maine State Pier within the following points (NAD 83):
| 43°40′25″ N, 070°14′21″ W.
| 43°40′36″ N, 070°13′56″ W.
| 43°39′58″ N, 070°13′21″ W.
| 43°39′47″ N, 070°13′51″ W.
SEPTEMBER
Pirates Festival Lobster Boat Races | • Event Type: Power Boat Race.
| • Sponsor: Eastport Pirates Festival.
| • Date: September 8, 2013.
| • Time: 11 a.m. to 6 p.m.
| • Location: The regulated area includes all waters in the vicinity of Eastport Harbor, Maine within the following points (NAD 83):
| 44°54′14″ N, 066°58′52″ W.
| 44°54′14″ N, 068°58′56″ W.
| 44°54′24″ N, 066°58′52″ W.
| 44°54′24″ N, 066°58′56″ W.

Table 2—(33 CFR 165.171)
MAY
Ride Into Summer (formerly listed as Hawgs, Pies, & Fireworks) | • Event Type: Fireworks Display.
| • Sponsor: Gardiner Maine Street.
| • Date: May 25, 2013.
| • Time: 8 p.m. to 10:30 p.m.
| • Location: In the vicinity of the Gardiner Waterfront, Gardiner, Maine in approximate position:
| 44°13′43″ N, 069°46′04″ W. (NAD 83).
JUNE
Rotary Waterfront Days Fireworks | • Event Type: Fireworks Display.
| • Sponsor: Gardiner Rotary.
| • Date: June 22, 2013.
| • Time: 8 p.m. to 10 p.m.
| • Location: In the vicinity of the Gardiner Waterfront, Gardiner, Maine in approximate position:
| 44°13′52″ N, 069°46′08″ W. (NAD 83).
Windjammer Days Fireworks | • Event Type: Fireworks Display.
| • Sponsor: Boothbay Harbor Region Chamber of Commerce.
| • Date: June 26, 2013.
| • Time: 8 p.m. to 10:30 p.m.
| • Location: In the vicinity of McFarland Island, Boothbay Harbor, Maine in approximate position:
| 43°50′38″ N, 069°37′57″ W. (NAD 83).
Jonesport 4th of July Fireworks | • Event Type: Fireworks Display.
| • Sponsor: Jonesport 4th of July Committee.
| • Date: June 29, 2013.
| • Time: 8:30 p.m. to 11 p.m.
| • Location: In the vicinity of Beals Island, Jonesport, Maine in approximate position:
| 44°31′18″ N, 067°36′43″ W. (NAD 83).
JULY
Burlington Independence Day Fireworks | • Event Type: Firework Display.
| • Sponsor: City of Burlington, Vermont.
| • Date: July 3, 2013.
| • Time: 8 p.m. to 10:30 p.m.
| • Location: From a barge in the vicinity of Burlington Harbor, Burlington, Vermont in approximate position:
| 44°28′31″ N, 073°13′31″ W. (NAD 83).
Camden 4th of July Fireworks (Formerly Camden 3rd of July Fireworks) | • Event Type: Fireworks Display.
| • Sponsor: Penobscot Bay Regional Chamber of Commerce (Formerly Camden, Rockport, Lincolnville Chamber of Commerce).
| • Date: July 4, 2013.
| • Time: 8:15 p.m. to 10:45 p.m.
| • Location: In the vicinity of Camden Harbor, Maine in approximate position:
| 44°12′32″ N, 069°02′58″ W. (NAD 83).
Bangor 4th of July Fireworks | • Event Type: Fireworks Display.
| • Sponsor: Bangor 4th of July Fireworks.
| • Date: July 4, 2013.
| • Time: 8:30 p.m. to 11 p.m.
| • Location: In the vicinity of the Bangor Waterfront, Bangor, Maine in approximate position:
| 44°47′27″ N, 068°46′31″ W. (NAD 83).
Bar Harbor 4th of July Fireworks | • Event Type: Fireworks Display.
| • Sponsor: Bar Harbor Chamber of Commerce.
| • Date: July 4, 2013.
| • Rain date: July 5, 2013.
| • Time: 8 p.m. to 10:30 p.m.
| • Location: In the vicinity of Bar Harbor Town Pier, Bar Harbor, Maine in approximate position:
| 44°23′31″ N, 068°12′15″ W. (NAD 83).
Boothbay Harbor 4th of July Fireworks | • Event Type: Fireworks Display.
| • Sponsor: Town of Boothbay Harbor.
| • Date: July 4, 2013.
| • Time: 8 p.m. to 10:30 p.m.
| • Location: In the vicinity of McFarland Island, Boothbay Harbor, Maine in approximate position:
| 43°50′38″ N, 069°37′57″ W. (NAD 83).
Colchester 4th of July Fireworks | • Event Type: Fireworks Display.
| • Sponsor: Town of Colchester, Recreation Department.
| • Date: July 4, 2013.
| • Rain Date: July 5, 2013.
| • Time: 8 p.m. to 10:30 p.m.
| • Location: In the vicinity of Bayside Beach and Mallets Bay in Colchester, Vermont in approximate position:
| 44°32′44″ N, 073°13′10″ W. (NAD 83).
Eastport 4th of July Fireworks | • Event Type: Fireworks Display.
| • Sponsor: Eastport 4th of July Committee.
| • Date: July 4, 2013.
| • Time: 8 p.m. to 10:30 p.m.
| • Location: From the Waterfront Public Pier in Eastport, Maine in approximate position:
| 44°54′25″ N, 066°58′55″ W. (NAD 83).
Portland Harbor 4th of July Fireworks | • Event Type: Fireworks Display.
| • Sponsor: Department of Parks and Recreation, Portland, Maine.
| • Date: July 4, 2013.
| • Rain date: July 5, 2013.
| • Time: 8:30 p.m. to 10:30 p.m.
| • Location: In the vicinity of East End Beach, Portland, Maine in approximate position:
| 43°40′16″ N, 070°14′44″ W. (NAD 83).
Stonington 4th of July Fireworks | • Event Type: Fireworks Display.
| • Sponsor: Deer Isle—Stonington Chamber of Commerce.
| • Date: July 4, 2013.
| • Rain Date: July 5, 2013.
| • Time: 8 p.m. to 10:30 p.m.
| • Location: In the vicinity of Two Bush Island, Stonington, Maine in approximate position:
| 44°08′57″ N, 068°39′54″ W. (NAD 83).
Ellis Short Sand Park Trustee Fireworks | • Event Type: Fireworks Display.
| • Sponsor: William Burnham.
| • Date: July 5, 2013.
| • Time: 8:30 p.m. to 11:30 p.m.
| • Location: In the vicinity of York Beach, Maine in approximate position:
| 43°10′27″ N, 070°36′25″ W. (NAD 83).
Shelburne Sprint Triathlon | • Event Type: Swim Event.
| • Sponsor: Race Vermont.
| • Dates: July 6, 2013 and August 3&18, 2013.
| • Time: 7 a.m. to 10 a.m.
| • Location: The regulated area includes all waters of Lake Champlain in the vicinity of Shelburne Beach in Shelburne, Vermont within a 400 yard radius of the following point (NAD 83):
| 44°21′45″ N, 075°15′58″ W.
Vinalhaven 4th of July Fireworks | • Event Type: Firework Display.
| • Sponsor: Vinalhaven 4th of July Committee.
| • Date: July 6, 2013.
| • Time: 8 p.m. to 10:30 p.m.
| • Location: In the vicinity of Grime′s Park, Vinalhaven, Maine in approximate position:
| 44°02′34″ N, 068°50′26″ W. (NAD 83).
Main Street Heritage Days 4th of July Fireworks | • Event Type: Fireworks Display.
| • Sponsor: Main Street Inc.
| • Date: July 7, 2013.
| • Time: 8:15 p.m. to 10:30 p.m.
| • Location: In the vicinity of Reed and Reed Boat Yard, Woolwich, Maine in approximate position:
| 43°54′56″ N, 069°48′16″ W. (NAD 83).
St. Albans Day Fireworks | • Event Type: Fireworks Display.
| • Sponsor: St. Albans Area Chamber of Commerce.
| • Date: July 9, 2013.
| • Time: 8 p.m. to 10:30 p.m.
| • Location: From the St. Albans Bay dock in St. Albans Bay, Vermont in approximate position:
| 44°48′25″ N 073° 08′23″ W. (NAD 83).
Peaks to Portland Swim | • Event Type: Swim Event.
| • Sponsor: Cumberland County YMCA.
| • Date: July 13, 2013.
| • Time: 9 a.m. to 12 p.m.
| • Location: The regulated area includes all waters of Portland Harbor between Peaks Island and East End Beach in Portland, Maine within the following points (NAD 83):
| 43°39′20″ N 070°11′58″ W.
| 43°39′45″ N 070°13′19″ W.
| 43°40′11″ N 070°14′13″ W.
| 43°40′08″ N 070°14′29″ W.
| 43°40′00″ N 070°14′23″ W.
| 43°39′34″ N 070°13′31″ W.
| 43°39′13″ N 070°11′59″ W.
St. George Days Fireworks | • Event Type: Fireworks.
| • Sponsor: Town of St. George.
| • Date: July 20, 2013.
| • Time: 8:30 p.m. to 10:30 p.m.
| • Location: The regulated area includes all waters of Inner Tenants Harbor, ME, in approximate position (NAD 83):
| 43°57′41.37″ N, 069°12′45″ W.
Richmond Days Fireworks | • Event Type: Fireworks Display.
| • Sponsor: Town of Richmond, Maine.
| • Date: July 27, 2013.
| • Time: 9:15 p.m. to 9:30 p.m.
| • Location: From a barge in the vicinity of the inner harbor, Tenants Harbor, Maine in approximate position:
| 44°08′42″ N, 068°27′06″ W. (NAD83).
Friendship Days Fireworks | • Event Type: Fireworks Display.
| • Sponsor: Town of Friendship.
| • Date: July 27, 2013.
| • Time: 9 p.m. to 9:30 p.m.
| • Location: In the vicinity of the Town Pier, Friendship Harbor, Maine in approximate position:
| 43°58′23″ N, 069°20′12″ W. (NAD83).
Bucksport Festival and Fireworks | • Event Type: Fireworks Display.
| • Sponsor: Bucksport Bay Area Chamber of Commerce.
| • Date: July 27, 2013.
| • Time: 9:15 p.m. to 10 p.m.
| • Location: In the vicinity of the Verona Island Boat Ramp, Verona, Maine, in approximate position:
| 44°34′9″ N, 068°47′28″ W (NAD83).
Colchester Triathlon | • Event Type: Swim Event.
| • Sponsor: Colchester Parks and Recreation Department.
| • Date: July 28, 2013.
| • Time: 9 a.m. to 9:45 a.m.
| • Location: The regulated area includes all waters of Malletts Bay on Lake Champlain, Vermont within the following points (NAD 83):
| 44°32′18″ N 073°12′35″ W.
| 44°32′28″ N 073°12′56″ W.
| 44°32′57″ N 073°12′38″ W.
AUGUST
Sprucewold Cabbage Island Swim | • Event Type: Swim Event.
| • Sponsor: Sprucewold Association.
| • Date: August 10, 2013.
| • Time: 1 p.m. to 6 p.m.
| • Location: The regulated area includes all waters of Linekin Bay between Cabbage Island and Sprucewold Beach in Boothbay Harbor, Maine within the following points (NAD 83):
| 43°50′37″ N 069°36′23″ W.
| 43°50′37″ N 069°36′59″ W.
| 43°50′16″ N 069°36′46″ W.
| 43°50′22″ N 069°36′21″ W.
Westerlund's Landing Party Fireworks | • Event Type: Fireworks Display.
| • Sponsor: Portside Marina.
| • Date: August 3, 2013.
| • Time: 8 p.m. to 10:30 p.m.
| • Location: In the vicinity of Westerlund′s Landing in South Gardiner, Maine in approximate position:
| 44°10′19″ N, 069°45′24″ W. (NAD 83).
Y-Tri Triathlon | • Event Type: Swim Event.
| • Sponsor: Plattsburgh YMCA.
| • Date: August 3, 2013.
| • Time: 8:30 a.m. to 10 a.m.
| • Location: The regulated area includes all waters of Treadwell Bay on Lake Champlain in the vicinity of Point Au Roche State Park, Plattsburgh, New York within the following points (NAD 83):
| 44°46′30″ N 073°23′26″ W.
| 44°46′17″ N 073°23′26″ W.
| 44°46′17″ N 073°23′46″ W.
| 44°46′29″ N 073°23′46″ W.
York Beach Fire Department Fireworks | • Event Type: Fireworks Display.
| • Sponsor: York Beach Fire Department.
| • Date: August 4, 2013.
| • Time: 8:30 p.m. to 11:30 p.m.
| • Location: In the vicinity of Short Sand Cove in York, Maine in approximate position:
| 43°10′27″ N, 070°36′25″ W. (NAD 83).
Rockland Breakwater Swim | • Event Type: Swim Event.
| • Sponsor: Pen-Bay Masters.
| • Date: August 31, 2013.
| • Time: 7:30 a.m. to 1:30 p.m.
| • Location: The regulated area includes all waters of Rockland Harbor, Maine in the vicinity of Jameson Point within the following points (NAD 83):
| 44°06′16″ N 069°04′39″ W.
| 44°06′13″ N 069°04′36″ W.
| 44°06′12″ N 069°04′43″ W.
| 44°06′17″ N 069°04′44″ W.
| 44°06′18″ N 069°04′40″ W.
Tri for Preservation | • Event Type: Swim Event.
| • Sponsor: Tri-Maine Productions.
| • Date: August 18, 2013.
| • Time: 6:30 a.m. to 10 a.m.
| • Location: In the vicinity of Crescent Beach State Park in Cape Elizabeth, Maine in approximate position:
| 43°33′46″ N 070°13′48″ W.
| 43°33′41″ N 070°13′46″ W.
| 43°33′44″ N 070°13′40″ W.
| 43°33′47″ N 070°13′46″ W.
Windjammer Weekend Fireworks | • Event Type: Fireworks Display.
| • Sponsor: Town of Camden, Maine.
| • Date: August 30, 2013.
| • Rain date: September 1, 2013.
| • Time: 8 p.m. to 9:30 p.m.
| • Location: From a barge in the vicinity of Northeast Point, Camden Harbor, Maine in approximate position:
| 44°12′10″ N, 069°03′11″ W. (NAD 83).
SEPTEMBER
Eastport Pirate Festival Fireworks | • Event Type: Fireworks Display.
| • Sponsor: Eastport Pirate Festival.
| • Date: September 7, 2013.
| • Time: 7 p.m. to 10:00 p.m.
| • Location: From the Waterfront Public Pier in Eastport, Maine in approximate position:
| 44°54′17″ N, 066°58′58″ W. (NAD 83).
The Lobsterman Triathlon | • Event Type: Swim Event.
| • Sponsor: Tri-Maine Productions.
| • Date: September 14, 2013.
| • Time: 7 a.m. to 11:00 a.m.
| • Location: The regulated area includes all waters in the vicinity of Winslow Park in South Freeport, Maine within the following points (NAD 83):
| 43°47′59″ N 070°06′56″ W.
| 43°47′44″ N 070°06′56″ W.
| 43°47′44″ N 070°07′27″ W.
| 43°47′57″ N 070°07′27″ W.
Eliot Festival Day Fireworks | • Event Type: Fireworks Display.
| • Sponsor: Eliot Festival Day Committee.
| • Date: September 27, 2013.
| • Rain date: September 29, 2013.
| • Time: 8 p.m. to 10:30 p.m.
| • Location: In the vicinity of Eliot Town Boat Launch, Eliot, Maine in approximate position:
| 43°08′56″ N, 070°49′52″ W. (NAD 83).

For events where the date is different from the dates previously published for that event, new Temporary Rules may be issued to enforce limited access areas for the marine event. The Coast Guard may patrol each event area under the direction of a designated Coast Guard Patrol Commander. The Patrol Commander may be contacted on Channel 16 VHF-FM (156.8 MHz) by the call sign “PATCOM.” Official patrol vessels may consist of any Coast Guard, Coast Guard Auxiliary, state, or local law enforcement vessels assigned or approved by the Captain of the Port, Sector Northern New England. For information about regulations and restrictions for waterway use during the effective periods of these events, please refer to 33 CFR 100.120 and 33 CFR 165.171.

This notice is issued under authority of 33 CFR 100.120, 33 CFR 165.171, and 5 U.S.C. 552 (a). In addition to this notice in the Federal Register, the Coast Guard will provide the maritime community with advance notification of this enforcement period via the Local Notice to Mariners and marine information broadcasts. If the COTP determines that the regulated area need not be enforced for the full duration stated in this notice, he or she may use a Broadcast Notice to Mariners to grant general permission to enter the regulated area.

Dated: May 24, 2013.
B.S. Gilda,
Captain, U. S. Coast Guard, Captain of the Port Sector Northern New England.

[FR Doc. 2013-13907 Filed 6-11-13; 8:45 am]

BILLING CODE 9110-04-P